DEPARTMENT OF TRANSPORTATION

Surface Transportation Board

[STB Finance Docket No. 35087 ¹]

Canadian National Railway Company and Grand Trunk Corporation—Control—EJ&E West Company

AGENCY: Surface Transportation Board.

¹ This decision also embraces Elgin, Joliet and Eastern Railway Company—Corporate Family Exemption—EJ&E West Company, STB Finance Docket No. 35087 (Sub-No. 1); Chicago, Central & Pacific Railroad Company—Trackage Rights Exemption—EJ&E West Company, STB Finance Docket No. 35087 (Sub-No. 2); Grand Trunk Western Railroad Incorporated—Trackage Rights Exemption—EJ&E West Company, STB Finance Docket No. 35087 (Sub-No. 3); Illinois Central Railroad Company—Trackage Rights Exemption—EJ&E West Company, STB Finance Docket No. 35087 (Sub-No. 4); Wisconsin Central Ltd.—Trackage Rights Exemption—EJ&E West Company, STB Finance Docket No. 35087 (Sub-No. 5); EJ&E West Company—Trackage Rights Exemption—Chicago, Central & Pacific Railroad Company, STB Finance Docket No. 35087 (Sub-No. 6); and EJ&E West Company—Trackage Rights Exemption—Illinois Central Railroad Company, STB Finance Docket No. 35087 (Sub-No. 7).

ACTION: Notice of Board meeting.

SUMMARY: The Board will hold a meeting on Tuesday, November 18, 2008, to receive a briefing from and discuss with the Section of Environmental Analysis (SEA) staff the Environmental Impact Statement (EIS) being prepared in STB Finance Docket No. 35087. The meeting will be open for public observation but not public participation.

DATES: The meeting will take place on Tuesday, November 18, 2008, beginning at 10 a.m.

ADDRESSES: The meeting will be held in the Hearing Room on the first floor of the Board's headquarters at Patriot's Plaza, 395 E Street, SW., Washington, DC 20423-0001.

A video broadcast of the hearing will be available via the Board's Web site at http://www.stb.dot.gov, under “Information Center”/“Webcast”/“Live Video” on the home page.

FOR FURTHER INFORMATION CONTACT: A. Dennis Watson, Office of Public Assistance, Governmental Affairs, and Compliance, Telephone: (202) 245-0234, FIRS: (800) 877-8339.

SUPPLEMENTARY INFORMATION: On October 30, 2007, the Canadian National Railway Company (CN) and Grand Trunk Corporation (collectively, CN or the Applicants) filed an application with the Board, seeking the Board's approval to acquire control of EJ&E West (EJ&EW) Company, a wholly owned noncarrier subsidiary of the Elgin, Joliet and Eastern Railway Company (EJ&E). EJ&E is a Class II railroad that currently operates approximately 200 miles of track in Northeastern Illinois and Northwestern Indiana.

On November 26, 2007, the Board issued Decision No. 2 announcing that SEA will prepare an EIS to assess the potential environmental impacts that may result from the proposed acquisition. The Draft EIS was served on July 25, 2008, and public comments on the Draft EIS were due by September 30, 2008. SEA is currently preparing the Final EIS in response to comments on the Draft EIS.

This action will not significantly affect either the quality of the human environment or the conservation of energy resources.

Dated: November 7, 2008.
Kulunie L. Cannon,
Clearance Clerk.

[FR Doc. E8-26919 Filed 11-12-08; 8:45 am]

BILLING CODE 4915-01-P